SECURITIES AND EXCHANGE COMMISSION

Sunshine Act Meeting

Federal Register Citation of Previous Announcement: [73 FR 35427, June 23, 2008].

Status: Closed Meeting.

Place: 100 F Street, NE., Washington, DC.

Date and Time of Previously Announced Meeting: Thursday, June 26, 2008 at 10 a.m.

Change in the Meeting: Cancellation of Meeting.

The Closed Meeting scheduled for Thursday, June 26, 2008 has been cancelled.

For further information please contact the Office of the Secretary at (202) 551-5400.

June 24, 2008.
Florence E. Harmon,
Acting Secretary.

[FR Doc. E8-14611 Filed 6-26-08; 8:45 am]

BILLING CODE 8010-01-P